SMALL BUSINESS ADMINISTRATION

[Declaration of Disaster #P032]

State of North Dakota (Amendment #2)

In accordance with a notice received from the Department of Homeland Security—Federal Emergency Management Agency, effective July 9, 2004, the above numbered declaration is hereby amended to include McHenry and Pierce Counties and the Turtle Mountain Indian Reservation in the State of North Dakota as a disaster area due to damages caused by severe storms, flooding, and ground saturation occurring on March 26, 2004, and continuing.

All other information remains the same, i.e., the deadline for filing applications for physical damage is July 6, 2004.

(Catalog of Federal Domestic Assistance Program Nos. 59008.)

Dated: July 13, 2004.
Herbert L. Mitchell,
Associate Administrator for Disaster Assistance.

[FR Doc. 04-16378 Filed 7-16-04; 8:45 am]

BILLING CODE 8025-01-P